NUCLEAR REGULATORY COMMISSION

[Docket Nos. 50-269, 50-270, and 50-287; NRC-2021-0146]

Notice of Intent To Conduct a Supplemental Scoping Process and Prepare a Draft Environmental Impact Statement; Duke Energy Carolinas, LLC; Oconee Nuclear Station, Units 1, 2, and 3

AGENCY: Nuclear Regulatory Commission.

ACTION: Subsequent license renewal environmental report supplement; intent to conduct a supplemental scoping process and prepare a draft environmental impact statement; request for comment.

SUMMARY: In response to the U.S. Nuclear Regulatory Commission's (NRC) Memorandum and Order, CLI-22-03 (February 24, 2022), the NRC received Subsequent License Renewal—Appendix E Environmental Report Supplement 2 (ER Supplement), dated November 7, 2022, related to the subsequent renewal of Renewed Facility Operating License Nos. DPR-38, DPR-47, and DPR-55, which authorizes Duke Energy Carolinas, LLC (Duke Energy, the applicant) to operate Oconee Nuclear Station (Oconee), Units 1, 2, and 3. The ER Supplement addresses certain environmental impacts of operating Oconee for an additional period of 20 years beyond the current license expiration dates. The NRC will conduct a limited scoping process to gather additional information necessary to prepare an environmental impact statement (EIS) to evaluate the environmental impacts for the subsequent license renewal (SLR) of the operating licenses for Oconee. The NRC is seeking public comment on the proper scope of the EIS to be prepared for this action.

DATES: Submit comments on the scope of the EIS by January 18, 2023. Comments received after this date will be considered if it is practical to do so, but the NRC is able to ensure consideration only for comments received on or before this date.

ADDRESSES: You may submit comments by any of the following methods; however, the NRC encourages electronic comment submission through the Federal rulemaking website.

• Federal Rulemaking Website: Go to https://www.regulations.gov and search for Docket ID NRC-2021-0146. Address questions about Docket IDs to Stacy Schumann; telephone: 301-415-0624; email: Stacy.Schumann@nrc.gov. For technical questions, contact the individual listed in the FOR FURTHER INFORMATION CONTACT section of this document.

• Email: Comments may be submitted to the NRC electronically using the email address OconeeEnvironmental@nrc.gov.

• Mail Comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lance Rakovan, Office of Nuclear Materials Safety and Safeguards, U.S. Nuclear Regulatory Commission, Washington, DC 20555-0001; telephone: 301-415-2589, email: Lance.Rakovan@nrc.gov.

SUPPLEMENTARY INFORMATION:

I. Obtaining Information and Submitting Comments

A. Obtaining Information

Please refer to Docket ID NRC-2021-0146 when contacting the NRC about the availability of information for this action. You may obtain publicly available information related to this action using any of the following methods:

• Federal Rulemaking Website: Go to https://www.regulations.gov and search for Docket ID NRC-2021-0146.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

• Public Library: A copy of the ER Supplement is available for public review at the Oconee County Public Library, 300 E South 2nd St., Seneca, SC 29678.

B. Submitting Comments

The NRC encourages electronic comment submission through the Federal rulemaking website (https://www.regulations.gov). Please include Docket ID NRC-2021-0146 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letter dated June 7, 2021, Duke Energy submitted to the NRC an application for subsequent license renewal of Renewed Facility Operating License Nos. DPR-38, DPR-47, and DPR-55 for Oconee, Units 1, 2, and 3, respectively, for an additional 20 years of operation. That submission initiated the NRC's proposed action of determining whether to grant the SLR application. The Oconee units are pressurized water reactors designed by Babcock & Wilcox and are located in Seneca, South Carolina, approximately 30 miles west of Greenville, SC. The current renewed facility operating license for Unit 1 expires at midnight on February 6, 2033, the current renewed facility operating license for Unit 2 expires at midnight on October 6, 2033, and the current renewed facility operating license for Unit 3 expires at midnight on July 19, 2034. The SLR application was submitted pursuant to section 103 of the Atomic Energy Act of 1954, as amended, and part 54 of title 10 of the Code of Federal Regulations (10 CFR), “Requirements for Renewal of Operating Licenses for Nuclear Power Plants,” and seeks to extend the renewed facility operating license for Unit 1 to midnight on February 6, 2053, the renewed facility operating license for Unit 2 to midnight on October 6, 2053, and the renewed facility operating license for Unit 3 to midnight on July 19, 2054. A notice of receipt and availability of the application was published in the Federal Register on June 25, 2021 (86 FR 33784). A notice of acceptance for docketing of the application and of opportunity to request a hearing was published in the Federal Register on July 28, 2021 (86 FR 40662). A public scoping meeting was held on August 21, 2021.

On February 24, 2022, the Commission issued several decisions, including CLI-22-02 and CLI-22-03, in which the Commission held that “the 2013 GEIS [NUREG-1437, “Generic Environmental Impact Statement for License Renewal of Nuclear Plants”] did not consider the impacts from operations during the subsequent license renewal period and applicants for subsequent license renewal must evaluate Category 1 impacts in their environmental reports. Accordingly, these impacts must be addressed on a site-specific basis in the Staff's site-specific environmental impact statements.” In addition, the Commission held that 10 CFR 51.53(c)(3) only applies to an initial license renewal applicant's preparation of an environmental report. As a result, the Commission determined, among other things, that the NRC staff's environmental reviews of pending subsequent license renewal applications are incomplete and directed the staff to prepare an update to the 2013 GEIS. In CLI-22-03, the Commission further stated that if an applicant does not wish to wait for the completion of the generic analysis and associated rulemaking, “the applicant may submit a revised environmental report providing information on environmental impacts during the subsequent license renewal period.”

Following the issuance of CLI-22-03, the NRC received the ER Supplement from Duke Energy, dated November 7, 2022, related to the subsequent renewal of the operating licenses for Oconee.

Given recent circumstances that require including, within the scope of the EIS for subsequent license renewal for Oconee, an evaluation of the issues treated as Category 1 in the 2013 GEIS, the NRC staff will conduct an additional limited scoping process associated with this action. Consistent with Commission direction, the NRC staff intends to prepare a Draft Supplemental Environmental Impact Statement for SLR of Oconee Units 1, 2 and 3 (DSEIS) for public comment, in which it will review all applicable “Category 1” (generic) issues listed in the 2013 GEIS for the purpose of making site-specific findings (e.g., SMALL, MODERATE, LARGE) on those issues. The NRC staff also intends to review all applicable “Category 2” (site-specific) issues listed in the 2013 GEIS, including any significant new information that may have arisen following the original August 10, 2021, to September 9, 2021, scoping period and will update the site-specific analysis, as appropriate, to address the new information. Environmental scoping comments should address matters that fit within these two categories; comments that do not fit into these two categories will not be considered.

III. Request for Comment

This notice informs the public of the NRC's intention to prepare a DSEIS related to the subsequent license renewal application and to provide the public an opportunity to participate in the environmental scoping process, as defined in 10 CFR part 51, “Environmental Protection Regulations for Domestic Licensing and Related Regulatory Functions.”

Participation in the scoping process by members of the public and local, State, Tribal, and Federal government agencies is encouraged. The scoping process for the DSEIS will be used to accomplish the following:

a. Define the proposed action, which is to be the subject of the DSEIS;

b. Determine the scope of the DSEIS and identify the significant issues to be analyzed in depth;

c. Identify and eliminate from detailed study those issues that are peripheral or are not significant; or were covered by a prior environmental review;

d. Identify any environmental assessments and other EISs that are being or will be prepared that are related to, but are not part of, the scope of the DSEIS being considered;

e. Identify other environmental review and consultation requirements related to the proposed action;

f. Indicate the relationship between the timing of the preparation of the environmental analyses and the Commission's tentative planning and decisionmaking schedule;

g. Identify any cooperating agencies and, as appropriate, allocate assignments for preparation and schedules for completing the DSEIS to the NRC and any cooperating agencies; and

h. Describe how the DSEIS will be prepared, including any contractor assistance to be used.

The NRC invites the following entities to participate in scoping:

a. The applicant, Duke Energy;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene.

Participation in the scoping process for the Oconee subsequent license renewal DSEIS does not entitle participants to become parties to the proceeding to which the DSEIS relates. Matters related to participation in any hearing are outside the scope of matters to be discussed.

IV. Availability of Documents

The documents identified in the following table are available to interested persons through one or more of the following methods, as indicated.

Document description | ADAMS accession No.
Subsequent License Renewal—Appendix E Environmental Report Supplement 2, dated November 7, 2022 | ML22311A036.
Oconee Nuclear Station, Units 1, 2, and 3, Application for Subsequent Renewed Operating License, dated June 7, 2021 | ML21158A193 (package).
Commission Memorandum and Order CLI-22-02, dated February 24, 2022 | ML22055A496.
Commission Memorandum and Order CLI-22-03, dated February 24, 2022 | ML22055A554.
NUREG-1437, “Generic Environmental Impact Statement for License Renewal of Nuclear Plants” Rev. 1 (June 2013), Vols. 1-3 | ML13106A241, ML13106A242, and ML13106A244.
NUREG-1437, “Generic Environmental Impact Statement for License Renewal of Nuclear Plants,” Supplement 2, Regarding Oconee Nuclear Station, Units 1, 2 & 3, dated December 1999 | ML003670518.

Dated: December 14, 2022.
For the Nuclear Regulatory Commission.
John M. Moses,
Deputy Director, Division of Rulemaking, Environmental, and Financial Support, Office of Nuclear Materials, Safety and Safeguards.

[FR Doc. 2022-27447 Filed 12-16-22; 8:45 am]

BILLING CODE 7590-01-P